DEPARTMENT OF COMMERCE

International Trade Administration

[A-533-810]

Stainless Steel Bar From India: Preliminary Results of New Shipper Antidumping Duty Administrative Review

AGENCY: Import Administration, International Trade Administration, Department of Commerce.

ACTION: Notice of preliminary results of new shipper antidumping duty administrative review: stainless steel bar from India.

SUMMARY: In response to requests from Atlas Stainless Corporation, the Department of Commerce is conducting a new shipper administrative review of the antidumping duty order on stainless steel bar from India. This review covers sales of the subject merchandise to the United States during the period February 1, 1999 through January 31, 2000.

We have preliminarily determined that Atlas Stainless Corporation, has not made sales of subject merchandise below normal value. If these preliminary results are adopted in our final results, we will instruct the Customs Service not to assess antidumping duties.

Interested parties are invited to comment on these preliminary results.

EFFECTIVE DATE: October 4, 2000.

FOR FURTHER INFORMATION CONTACT: Blanche Ziv or Ryan Langan, Office 1, Import Administration, International Trade Administration, U.S. Department of Commerce, 14th Street and Constitution Avenue, NW., Washington DC 20230; telephone (202) 482-4207 or (202) 482-1279, respectively.

Applicable Statute

Unless otherwise indicated, all citations to the Tariff Act of 1930, as amended (“the Act”), are references to the provisions effective January 1, 1995, the effective date of the amendments made to the Act by the Uruguay Round Agreements Act. In addition, all references to the Department of Commerce's (“the Department's”) regulations are to 19 CFR Part 351 (April 1999).

Background

On February 26, 2000, the Department received a request from Atlas Stainless Corporation (“Atlas”) to conduct a new shipper administrative review of the antidumping duty order on stainless steel bar from India. The Department published in the Federal Register, on April 7, 2000, a notice of initiation of a new shipper administrative review of Atlas covering the period February 1, 1999 through January 31, 2000 (65 FR 18295). The initiation notice incorrectly stated the period of review as being February 1, 1998 through January 31, 1999. The period covered by this review is February 1, 1999 through January 31, 2000. See 351.214(g)(1)(A).

Scope of Review

Imports covered by this review are shipments of stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to these orders is currently classifiable under subheadings 7222.10.0005, 7222.10.0050, 7222.20.0005, 7222.20.0045, 7222.20.0075, and 7222.30.0000 of the Harmonized Tariff Schedule of the United States (“HTSUS”). Although the HTSUS subheadings are provided for convenience and customs purposes, our written description of the scope of this order is dispositive.

Treatment of Sales of Tolled Merchandise

Pursuant to 19 CFR 351.401(h) of its regulations, the Department will not consider a toller or subcontractor to be a manufacturer or producer when the toller or subcontractor does not acquire ownership of the finished products and does not control the relevant sales of the subject merchandise and the foreign like product. In determining whether a company that uses a subcontractor in a tolling arrangement is a producer pursuant to 19 CFR 351.401(h), we examine all relevant facts surrounding a tolling agreement. Atlas claims that under the tolling arrangement with its unaffiliated subcontractor, Atlas is the producer of the subject merchandise at issue. In support of this claim, Atlas reports that it: (1) Purchases all of the inputs, (2) pays the subcontractor a processing fee, and (3) maintains ownership at all times of the inputs as well as the final product. Based on this evidence, we preliminarily determine that Atlas is the producer of the tolled merchandise, and hence the appropriate respondent.

United States Price

In calculating the price to the United States, we used export price (“EP”), in accordance with section 772(a) of the Act, because the subject merchandise was sold directly to the first unaffiliated purchaser in the United States prior to importation into the United States and the use of constructed export price was not otherwise indicated.

We calculated EP based on the CIF price to the United States. In accordance with section 772(c)(2) of the Act, we made deductions, as appropriate, for foreign inland freight, international freight, marine insurance, and brokerage and handling.

Normal Value

Atlas reported no home market sales or third country sales during the POR. Therefore, in accordance with section 773(e) of the Act, we calculated a constructed value (“CV”) for Atlas based on the sum of the respondent's cost of materials, labor, overhead, general and administrative expenses (“GNA”), profit, and U.S. packing costs. With respect to G&A, we used the amounts reported by Atlas in their April 28, 2000 response. With respect to profit, we used the profit from the 1999-2000 financial statements submitted by Atlas in their September 1, 2000 response. We divided that amount by its total cost of production, also as reported in their 1999-2000 financial statements.

Preliminary Results of the Review

As a result of our comparison of EP and CV, we preliminarily determine the following weighted-average dumping margin:

Manufacturer/ exporter | Period of review | Margin (percent)
Atlas Stainless Corporation | 2/1/99-1/31/00 | 0.00

Public Comment

Interested parties may request a hearing within 30 days of the date of publication of this notice. Any hearing, if requested, will be held two days after the scheduled date for submission of rebuttal briefs (see below). Interested parties may submit written arguments in case briefs within 30 days of the date of publication of this notice. Rebuttal briefs, limited to issues raised in case briefs, may be filed no later than five days after the date of filing the case briefs. Parties who submit briefs in these proceedings should provide a summary of the arguments not to exceed five pages and a table of statutes, regulations, and cases cited. Copies of case briefs and rebuttal briefs must be served on interested parties in accordance with 19 CFR 351.303(f)(3).

The Department will issue the final results of this administrative review within 120 days from the publication of these preliminary results.

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This new shipper review and notice are in accordance with sections 751(a)(1) and 777(i)(1) of the Act.

Dated: September 27, 2000.
Troy H. Cribb,
Acting Assistant Secretary for Import Administration.

[FR Doc. 00-25465 Filed 10-3-00; 8:45 am]

BILLING CODE 3510-DS-U